SMALL BUSINESS ADMINISTRATION

Military Reservist Economic Injury Disaster Loans Interest Rate for Third Quarter FY 2018

The Small Business Administration publishes an interest rate for Military Reservist Economic Injury Disaster Loans (13 CFR 123.512) on a quarterly basis. The rate will be 3.610 for loans approved on or after May 1, 2018.

James Rivera,
Associate Administrator for Disaster Assistance.

[FR Doc. 2018-09620 Filed 5-4-18; 8:45 am]

BILLING CODE P